MILITARY COMPENSATION AND RETIREMENT MODERNIZATION COMMISSION

Meeting of the Military Compensation and Retirement Modernization Commission

AGENCY: Military Compensation and Retirement Modernization Commission.

ACTION: Notice of public meetings.

SUMMARY: The Military Compensation and Retirement Modernization Commission (MCRMC) was established by the National Defense Authorization Act FY 2013. Pursuant to the Act, the Commission is holding public hearings on the mission of the agency.

DATES: The hearings will be held Monday, December 2, 2013 and Tuesday, December 3, 2013.

ADDRESSES: The hearings will be held at locations to be determined in the Hampton Roads metro area.

FOR FURTHER INFORMATION CONTACT: Christopher Nuneviller, Associate Director, Military Compensation and Retirement Modernization Commission, P.O. Box 13170, Arlington, VA 22209, telephone 703-692-2080, fax 703-697-8330, email christopher.nuneviller@mcrmc.gov.

SUPPLEMENTARY INFORMATION: The Military Compensation and Retirement Modernization Commission (MCRMC) was established by the National Defense Authorization Act FY 2013, Public Law 112-239, 126 Stat. 1787 (2013). The Commission will conduct public hearings across the United States and on select military installations internationally in order to solicit comments on the modernization of the military compensation and retirement systems. The Commission seeks the views of service members, retirees, their beneficiaries and other interested parties regarding pay, retirement, health benefits and quality of life programs of the Uniformed Services. The Commission will hear from senior commanders of local military commands and their senior enlisted advisors, unit commanders and their family support groups, local medical and education community representatives, and dining facilities, grocery and other quality of life organizations. These meetings sites will be accessible to members of the general public including individuals with disabilities.

Agenda

Date: Monday, December 2, 2013.

Time: Panel and Participants.

12:30 p.m., Local Commanders

7:00 p.m., Town Hall

Date: Tuesday, December 3, 2013.

9:00 a.m., Local Unit Commanders

12:30 p.m., Medical Services

3:00 p.m., Quality of Life Matters

The Panel Testimony heard on both Monday, December 2nd and Tuesday, December 3rd will consist of:

a. Brief opening remarks by the Chairman and one or more of the Commissioners,

b. brief opening remarks by each panelist, and

c. a series of questions posed by the Chairman and Commissioners to the panelists.

The Chairman and Commissioners will pose questions to the attendees of the Town Hall the evening of Monday, December 3rd. Attendees will then be given an opportunity to address the Chairman and Commissioners and relay to them their experience and comments.

Due to the deliberative, nascent and formative nature of the Commission's work at this very early stage, the Commissioners are unable to discuss their thoughts, plans or intentions for specific recommendations that will ultimately be made to the President and Congress.

Each public hearing will be transcribed and placed on the Commission's Web site. In addition to public hearings, and due to the essential need for input from the beneficiaries, the Commission is accepting and strongly encourages comments and other submissions on its Web site (www.mcrmc.gov).

Christopher Nuneviller,
Associate Director, Administration and Operations.

[FR Doc. 2013-27985 Filed 11-21-13; 8:45 am]

BILLING CODE P